DEPARTMENT OF ENERGY

Federal Energy Regulatory Commission

[Docket No. QF09-261-000]

Lafarge Midwest, Inc.; Notice of Filing of Notice of Self-Certification of Qualifying Status of a Cogeneration Facility

March 17, 2009.

Take notice that on March 11, 2009, Lafarge Midwest, Inc., of 1435 Ford Avenue, Alpena, MI 49707 filed with the Federal Energy Regulatory Commission (Commission) a notice of self-certification of a facility as a qualifying cogeneration facility, pursuant to 18 CFR 292.207(a) of the Commission's regulations.

The facility produces cement as its primary activity. Waste heat from this process is used to create steam, which serves as the primary energy source for the production of electricity. Five turbines are driven by the steam; each turbine is linked to a generator. The combined nameplate capacity of the cogeneration facility is 48.75 MW.

Excess power results from the aforesaid cogeneration process will be sold to Alpena Power Company, which is interconnected with the Qualifying Facility.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-6284 Filed 3-23-09; 8:45 am]

BILLING CODE